DEPARTMENT OF COMMERCE

International Trade Administration

A-570-846

Brake Rotors From the People's Republic of China: Final Results of 2006-2007 Administrative and New Shipper Reviews and Partial Rescission of 2006-2007 Administrative Review

AGENCY: Import Administration, International Trade Administration, Department of Commerce.

SUMMARY: On February 5, 2008, the Department of Commerce (“Department”) published Brake Rotors From the People's Republic of China: Preliminary Results of the 2006 2007 Administrative and New Shipper Reviews and Partial Rescission of the 2006 2007 Administrative Review, 73 FR 6700 (February 5, 2008) (“Preliminary Results”). The period of review (“POR”) is April 1, 2006, through March 31, 2007. The administrative review covers two mandatory respondents and 12 separate-rate respondents. The new shipper review covers one new shipper.

We invited interested parties to comment on our Preliminary Results. Based on our analysis of the comments received, we made certain changes to our calculations. The final dumping margins for the administrative and new shipper reviews are listed in the “Final Results of the Reviews” section, below.

EFFECTIVE DATE: June 10, 2008.

FOR FURTHER INFORMATION CONTACT: Frances Veith or Blanche Ziv, AD/CVD Operations, Office 8, Import Administration, International Trade Administration, U.S. Department of Commerce, 14th Street and Constitution Avenue, NW, Washington, DC 20230; telephone: 202-482-4295 or 202-482-4207, respectively.

SUPPLEMENTARY INFORMATION:

Background

On February 5, 2008, the Department published the Preliminary Results of the administrative and new shipper reviews of the antidumping duty order on brake rotors from the People's Republic of China (“PRC”).

On March 6, 2008, the Department received a case brief from Trade Pacific PLLC on behalf of its clients Laizhou Auto Brake Equipment Company (“LABEC”), Yantai Winhere Auto-Part Manufacturing Co., Ltd. (“Winhere”), Longkou Haimeng Machinery Co., Ltd. (“Haimeng”), Laizhou Luqi Machinery Co., Ltd. (“Luqi”), Laizhou Hongda Auto Replacement Co., Ltd. (“Hongda”), Qingdao Meita Automotive Industry Co., Ltd. (“Meita”), Dixion Brake System (Longkou) Ltd. (“Dixion”), and Laizhou Wally Automobile Co., Ltd. (“Wally”) (collectively, “the Trade Pacific respondents”). On March 11, 2008, we received a rebuttal brief from the Coalition for the Preservation of American Brake Drum and Rotor Aftermarket Manufacturers (“petitioner”).

We conducted these reviews in accordance with sections 751 and 777(i)(1) of the Tariff Act of 1930, as amended (“the Act”), and 19 CFR 351.213 and 19 CFR 351.221, as appropriate.

Period of Review

The POR is April 1, 2006, through March 31, 2007.

Scope of the Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.5010 of the Harmonized Tariff Schedule of the United States (“HTSUS”).¹ Although the HTSUS subheading is provided for convenience and customs purposes, the written description of the scope of this order is dispositive.

¹ As of January 1, 2005, the HTSUS classification for brake rotors (discs) changed from 8708.39.5010 to 8708.39.5030. As of January 1, 2007, the HTSUS classification for brake rotors (discs) changed from 8708.39.5030 to 8708.30.5030. See Harmonized Tariff Schedule of the United States (2007) (Rev. 2), available at <ww.usitc.gov>.

Analysis of Comments Received

All issues raised in the case and rebuttal briefs filed by parties in these reviews are addressed in the Memorandum from Stephen J. Claeys, Deputy Assistant Secretary for Import Administration, to David M. Spooner, Assistant Secretary for Import Administration, “Issues and Decision Memorandum for the 2006-2007 Administrative and New Shipper Reviews of the Antidumping Duty Order on Brake Rotors From the People's Republic of China,” dated June 4, 2008 (“Issues and Decision Memo”), which is hereby adopted by this notice. A list of the issues that parties raised and to which we responded in the Issues and Decision Memo follows as an appendix to this notice. The Issues and Decision Memo is a public document which is on file in the Central Records Unit (“CRU”) in room 1117 of the main Department building, and is also accessible on the Web at <http://ia.ita.doc.gov/frn/>. The paper copy and electronic version of the Issues and Decision Memo are identical in content.

Partial Rescission of Administrative Review

In the Preliminary Results, the Department issued a notice of intent to rescind the administrative review with respect to exporters in the following specified exporter or exporter/producer (manufacturer) combinations: (1) Shanxi Zhongding Auto Parts Co., Ltd. (“SZAP”), (2) Shandong Huanri Group Co., Ltd. (“Huanri”), (3) Longkou Qizheng Auto Parts Co. (“Qizheng”), (4) China National Industrial Machinery Import & Export Corporation (“CNIM”), (5) Xianghe Xumingyuan Auto Parts Co. (“Xumingyuan”), (6) Qingdao Golrich Autoparts Co., Ltd. (“Golrich”), (7) China National Automotive Industry Import & Export Corporation (“CAIEC”), manufactured by any company other than Shandong Laizhou CAPCO Industry (“CAPCO”), (8) CAPCO/manufactured by any company other than CAPCO, (9) Laizhou Luyuan Automobile Fittings Co. (“Luyuan”), manufactured by any company other than Luyuan or Shenyang Honbase Machinery Co., Ltd. (“Honbase”), and (10) Honbase, manufactured by any company other than Honbase or Luyuan, in accordance with 19 CFR 351.213(d)(3), because we found no evidence that any of these companies made shipments of subject merchandise to the United States during the POR. See Preliminary Results, 73 FR at 6703. The Department received no comments on this issue, and we did not receive any further information since the issuance of the Preliminary Results that provides a basis for reconsideration of this determination. Therefore, the Department is rescinding this administrative review with respect to these exporters in the following specified exporter or exporter/producer combinations: (1) SZAP, (2) Huanri, (3) Qizheng, (4) CNIM, (5) Xumingyuan, (6) Golrich, (7) CAIEC/manufactured by any company other than CAPCO, (8) CAPCO/manufactured by any company other than CAPCO, (9) Luyuan/manufactured by any company other than Luyuan or Honbase, and (10) Honbase/manufactured by any company other than Honbase or Luyuan.

Separate Rates

In our Preliminary Results, we determined that the two mandatory respondents (i.e., Haimeng and Meita), the 12 separate-rate respondents (i.e., non-selected respondents),² and the new shipper (i.e., Shanghai Tylon Company Ltd. (“Tylon”)) met the criteria for the assignment of a separate rate. See Preliminary Results, 73 FR at 6702, 6703. The Department received no comments on this issue, and we did not receive any further information since the issuance of the Preliminary Results that provides a basis for reconsideration of these determinations for the final results.

² The non-selected respondents are as follows: (1) Winhere; (2) LABEC; (3) Hongda; (4) Wally; 5) Dixion; (6) Qingdao Gren Co. (“Gren”); (7) Zibo Luzhou Automobile Parts Co., Ltd. (“ZLAP”); (8) Longkou TLC Machinery Co., Ltd. (“TLC”); (9) Zibo Golden Harvest Machinery Limited Company (“ZGOLD”); (10) Luqi; (11) Shenyang Yinghao Machinery Co. (“Yinghao”); and (12) Longkou Jinzheng Machinery Co. (“Jinzheng”).

Changes Since the Preliminary Results

Based on our analysis of comments received from interested parties and information on the record of these reviews, we made changes to the margin calculations as noted below.

We have made certain changes to the financial ratio calculations for the final results. For further details, see the Issues and Decision Memo at Comment 3 and the Department's memorandum entitled, “2006-2007 Administrative and New Shipper Reviews of the Antidumping Duty Order on Brake Rotors from the People's Republic of China: Surrogate Values for the Final Results,” dated concurrently with this notice. We also applied the updated value for labor using the regression-based wage rate for the PRC published on Import Administration's website. See <http://ia.ita.doc.gov/wages/05wages/05wages-051608.html/, and see Corrected 2007 Calculation of Expected Non-market Economy Wages, 73 FR 27795 (May 14, 2008)>. For further details on company-specific calculations, see the company-specific analysis memoranda.³

³ See the Department's memorandum entitled, “2006-2007 Administrative and New Shipper Reviews of the Antidumping Duty Order on Brake Rotors from the People's Republic of China: Analysis of the Final Results Margin Calculation for Longkou Haimeng Machinery Co., Ltd.,” dated concurrently with this notice; the Department's memorandum entitled, “2006-2007 Administrative and New Shipper Reviews of the Antidumping Duty Order on Brake Rotors from the People's Republic of China: Analysis of the Final Results Margin Calculation for Qingdao Meita Automotive Industry Co., Ltd,” dated concurrently with this notice; and the Department's memorandum entitled, “2006-2007 Administrative and New Shipper Reviews of the Antidumping Duty Order on Brake Rotors from the People's Republic of China: Analysis of the Final Results Margin Calculation for Shanghai Tylon Company Ltd.,” dated concurrently with this notice.

Final Results of the Reviews

We determine that the following final weighted-average dumping margins exist for the period April 1, 2006, through March 31, 2007:

Brake Rotors from the PRC
Individually Reviewed Exporters 2006-2007 Administrative Review | Weighted-Average Percent Margin
Longkou Haimeng Machinery Co., Ltd. | 0.02 (de minimis)
Qingdao Meita Automotive Industry Co., Ltd. | 0.00

Separate-Rate Applicant Exporters 2006-2007 Administrative Review | Weighted-Average Percent Margin
Laizhou Auto Brake Equipment Co., Ltd. | 0.00
Yantai Winhere Auto-Part Manufacturing Co., Ltd. | 0.00
Laizhou Hongda Auto Replacement Parts Co., Ltd. | 0.00
Laizhou City Luqi Machinery Co., Ltd. | 0.00
Laizhou Wally Automobile Co., Ltd. | 0.00
Zibo Luzhou Automobile Parts Co., Ltd. | 0.00
Zibo Golden Harvest Machinery Limited Company | 0.00
Longkou TLC Machinery Co., Ltd. | 0.00
Longkou Jinzheng Machinery Co., Ltd. | 0.00
Qingdao Gren (Group) Co. | 0.00
Shenyang Yinghao Machinery Co. | 0.00
Longkou Dixion Brake System Ltd. | 0.00

2006-2007 New Shipper Review Exporter/Producer | Weighted-Average Percent Margin
Exporter: Shanghai Tylon Company Ltd. Producer: Shanghai Tylon Company Ltd. | 0.00

The Department will disclose calculations performed for the final results to the parties within five days of the date of publication of this notice in accordance with 19 CFR 351.224(b).

Assessment Rates

The Department has determined, and U.S. Customs and Border Protection (“CBP”) shall assess, antidumping duties on all appropriate entries covered by these reviews. The Department intends to issue assessment instructions to CBP 15 days after the publication date of the final results of these reviews. In accordance with 19 CFR 351.212(b)(1), for Haimeng and Meita, we calculated an exporter/importer (or customer)-specific assessment rate for the merchandise subject to these reviews. For Tylon, we calculated an exporter/producer/importer (or customer)-specific assessment rate for the merchandise subject to these reviews. Where the respondent has reported reliable entered values, we calculated importer (or customer)-specific ad valorem rates by aggregating the dumping margins calculated for all U.S. sales to each importer (or customer) and dividing this amount by the total entered value of the sales to each importer (or customer). See 19 CFR 351.212(b)(1). Where an importer (or customer)-specific ad valorem rate is greater than de minimis, we will apply the assessment rate to the entered value of the importer's/customer's entries during the review period. See 19 CFR 351.212(b)(1). Where we do not have entered values for all U.S. sales, we calculated a per-unit assessment rate by aggregating the antidumping duties due for all U.S. sales to each importer (or customer) and dividing this amount by the total quantity sold to that importer (or customer). See 19 CFR 351.212(b)(1). To determine whether the duty assessment rates are de minimis, in accordance with the requirement set forth in 19 CFR 351.106(c)(2), we calculated importer (or customer)-specific ad valorem ratios based on the estimated entered value. Where an importer (or customer)-specific ad valorem rate is zero or de minimis, we will instruct CBP to liquidate appropriate entries without regard to antidumping duties. See 19 CFR 351.106(c)(2).

For the companies receiving a separate rate that were not selected for individual review (i.e., Winhere, LABEC, Hongda, Wally, Dixion, Gren, ZLAP, TLC, ZGOLD, Luqi, Yinghao, and Jinzheng), we will calculate an assessment rate based on the weighted average of the cash deposit rates calculated for the companies selected for individual review pursuant to section 735(c)(5)(B) of the Act. For further details, see the Issues and Decision Memo at Comment 1.

Cash-Deposit Requirements

The following cash deposit rates will be effective upon publication of this notice of final results for all shipments of subject merchandise exported by Tylon entered or withdrawn from warehouse, for consumption on or after publication date of this notice: (1) zero cash deposit will be required for subject merchandise manufactured and exported by Tylon; and (2) for subject merchandise exported by Tylon but not manufactured by Tylon, the cash deposit rate will be the PRC-wide rate of 43.32 percent.

The following cash deposit requirements will be effective upon publication of this notice of final results for all other shipments of brake rotors from the PRC entered, or withdrawn from warehouse, for consumption on or after the publication date, as provided by section 751(a)(1) of the Act: (1) for Haimeng, Meita, Winhere, LABEC, Hongda, Wally, Dixion, Gren, ZLAP, TLC, ZGOLD, Luqi, Yinghao, and Jinzheng, zero cash deposit will be required; (2) the cash deposit rate for previously investigated or reviewed PRC and non-PRC exporters who received a separate rate in a prior segment of the proceeding (which were not reviewed in this segment of the proceeding) will continue to be the rate assigned in that segment of the proceeding; (3) the cash deposit rate for all PRC exporters of subject merchandise that have not been found to be entitled to a separate rate will be the PRC-wide rate of 43.32 percent; and (4) the cash deposit rate for all non-PRC exporters or exporter/producer combination of subject merchandise which have not received their own rate will be the rate applicable to the PRC exporter that supplied that non-PRC exporter. These requirements shall remain in effect until further notice.

Notification to Interested Parties

This notice serves as a final reminder to importers of their responsibility under 19 CFR 351.402(f)(2) to file a certificate regarding the reimbursement of antidumping duties prior to liquidation of the relevant entries during this review period. Pursuant to 19 CFR 351.402(f)(3), failure to comply with this requirement could result in the Secretary's presumption that reimbursement of antidumping duties occurred and the subsequent assessment of doubled antidumping duties.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice of final results of the administrative and new shipper reviews is issued and published in accordance with sections 751(a)(1) and 777(i)(1) of the Act.

Dated: June 4, 2008.
David M. Spooner,
Assistant Secretary for Import Administration.

Appendix

List of Comments and Issues in the Issues and Decisions Memorandum

Comment 1 Calculation of Separate Rate for Non-Selected Respondents

Comment 2 Voluntary Responses of Non-selected Respondents

Comment 3 Financial Ratios: Calculation of Factory Overhead, Selling, General, and Administrative Expenses and Profit

[FR Doc. E8-13001 Filed 6-9-08; 8:45 am]

BILLING CODE 3510-DS-S